NATIONAL CREDIT UNION ADMINISTRATION

Notice of Meeting

Time and Date: 10 a.m., Thursday, December 13, 2007.

Place: Board Room, 7th Floor, Room 7047, 1775 Duke Street, Alexandria, VA 22314-3428.

Status: Open.

Matters To Be Considered:

1. NCUA's Strategic Plan 2009-2014.

2. NCUA's Policy for Setting the Operating Level and Monitoring the National Credit Union Share Insurance Fund (NCUSIF).

3. National Credit Union Share Insurance Fund (NCUSIF) Investment Policy.

FOR FURTHER INFORMATION CONTACT: Mary Rupp, Secretary of the Board, Telephone: 703-518-6304.

Mary Rupp,
Secretary of the Board.

[FR Doc. 07-6015 Filed 12-10-07; 2:37 pm]

BILLING CODE 7535-01-M